DEPARTMENT OF LABOR

Employment and Training Administration

[TA-W-38,568]

Security Chain Company, Clackamas, OR; Notice of Termination of Investigation

Pursuant to section 221 of the Trade Act of 1974, an investigation was initiated on January 22, 2001, in response to a worker petition which was filed on behalf of its workers at Security Chain Company, located in Clackamas, Oregon.

The petitioners have requested that the petition be withdrawn. Consequently further investigation in this case would serve no purpose, and the investigation has been terminated.

Signed in Washington, DC this 20th day of March, 2001.
Linda G. Poole,
Certifying Officer, Division of Trade Adjustment Assistance.

[FR Doc. 01-8336 Filed 4-4-01; 8:45 am]

BILLING CODE 4510-30-M